DEPARTMENT OF COMMERCE

International Trade Administration

[A-588-804]

Ball Bearings and Parts Thereof From Japan: Rescission of Antidumping Duty Administrative Review, in Part; 2010-2011

AGENCY: Enforcement and Compliance, International Trade Administration, Department of Commerce.

SUMMARY: The Department of Commerce (the Department) is rescinding in part its administrative review of the antidumping duty order on ball bearings and parts thereof (ball bearings) from Japan with respect to certain companies for the period May 1, 2010, through April 30, 2011.

DATES: Effective Date: May 8, 2014.

FOR FURTHER INFORMATION CONTACT: Sandra Dreisonstok or Minoo Hatten, AD/CVD Operations Office I, Enforcement and Compliance, International Trade Administration, U.S. Department of Commerce, 14th Street and Constitution Avenue NW., Washington, DC 20230; telephone: (202) 482-0768 and (202) 482-1690 respectively.

SUPPLEMENTARY INFORMATION:

Background

On May 2, 2011, we published a notice of opportunity to request an administrative review of the antidumping duty order on ball bearings from Japan for the period May 1, 2010, through April 30, 2011.¹ We received timely filed requests for review of 31 producers or exporters from various interested parties. On June 28, 2011, in accordance with section 751(a) of the Tariff Act of 1930, as amended (the Act) and 19 CFR 351.221(c)(1)(i), we initiated an administrative review of the order on ball bearings from Japan with respect to the following firms: ²

¹ See Antidumping or Countervailing Duty Order, Finding, or Suspended Investigation; Opportunity To Request Administrative Review, 76 FR 24460 (May 2, 2011).

² See Initiation of Antidumping and Countervailing Duty Administrative Reviews and Request for Revocation in Part, 76 FR 37781 (June 28, 2011).

Asahi Seiko Co., Ltd.

Aisin Seiki Co. Ltd.

Audi AG

Bosch Packaging Technology K.K.

Bosch Rexroth Corporation

Caterpillar Inc.

Caterpillar Japan Ltd.

Caterpillar Overseas S.A.R.L.

Caterpillar Group Services S.A.

Caterpillar Brazil Ltd.

Caterpillar Africa Pty. Ltd.

Caterpillar of Australia Pty. Ltd.

Caterpillar S.A.R.L.

Caterpillar Americas Mexico, S. de R.L. de C.V.

Caterpillar Logistics Services China Ltd.

Caterpillar Mexico, S.A. de C.V.

Glory Ltd.

Hagglunds Ltd.

Hino Motors Ltd.

JTEKT Corporation

Kongskilde Limited

Mazda Motor Corporation

Nachi-Fujikoshi Corporation

NSK Ltd.

NSK Corporation

NTN Corporation

Perkins Engines Company Limited

Sapporo Precision, Inc., and Tokyo Precision, Inc.

Volkswagen AG

Volkswagen Zubehor GmbH

Yamazaki Mazak Trading Corporation

On July 15, 2011, pursuant to a decision of the Court of International Trade (CIT) that affirmed the International Trade Commission's (ITC's) negative injury determinations on remand in the second sunset review of the antidumping duty order on ball bearings from Japan, we revoked the order on ball bearings and parts thereof from Japan and discontinued all ongoing administrative reviews, pending a final and conclusive court decision.³ On May 16, 2013, the United States Court of Appeals for the Federal Circuit (Federal Circuit) reversed the CIT's decision and ordered the CIT to reinstate the ITC's affirmative material injury determinations.⁴ Subsequently, on November 18, 2013, the CIT issued final judgment reinstating the ITC's affirmative injury determinations.⁵ Thus, on December 16, 2013 we reinstated the antidumping duty order and resumed all previously discontinued administrative reviews.⁶

³ See Ball Bearings and Parts Thereof from Japan and the United Kingdom: Revocation of Antidumping Duty Orders, 76 FR 41761 (July 15, 2011).

⁴ NSK Corp v. United States International Trade Commission, 716 F.3d 1352 (Fed. Cir. 2013).

⁵ NSK Corp. v. United States International Trade Commission, Court No. 06-334, Slip Op. 2013-143 (CIT November 18, 2013).

⁶ See Ball Bearings and Parts Thereof From Japan and the United Kingdom: Notice of Reinstatement of Antidumping Duty Orders, Resumption of Administrative Reviews, and Advance Notification of Sunset Reviews, 78 FR 76104 (December 16, 2013) (Reinstatement Notice).

Rescission of Review in Part

Pursuant to 19 CFR 351.213(d)(1), the Department will rescind an administrative review, “in whole or in part, if a party that requested a review withdraws the request within 90 days of the date of publication of notice of initiation of the requested review.” In our Reinstatement Notice, we informed parties that the deadline to withdraw requests for review was 90 days from the publication of that notice.⁷ We received timely withdrawals of requests for review from all firms except Bosch Packaging Technology K.K., Bosch Rexroth Corporation, and Hagglunds Ltd. (collectively, the Robert Bosch Companies).⁸ This rescission in part is in accordance with 19 CFR 351.213(d)(1).

⁷ Because the 90-day deadline to withdraw was Sunday, March 16, 2014, and the government was closed on Monday, March 17, 2014, due to hazardous weather, the actual deadline for parties to withdraw was Tuesday, March 18, 2014.

⁸ On March 27, 2014, the Robert Bosch Companies filed an untimely letter withdrawing their request for review. Because the deadline to withdraw was clearly established in the Reinstatement Notice, we did not grant the withdrawal request. See April 2, 2014 memorandum to the file from Hermes Pinilla, “Ball Bearings and Parts Thereof from Japan—Issuance of Antidumping Duty Questionnaire to the Robert Bosch Companies,” for further discussion.

Accordingly, the Department intends to issue appropriate assessment instructions to U.S. Customs and Border Protection 15 days after publication of this notice.

Notifications

This notice serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

This notice is issued and published in accordance with sections 751(a)(1) and 777(i)(1) of the Act and 19 CFR 351.213(d)(4).

Dated: May 1, 2014.
Christian Marsh,
Deputy Assistant Secretary for Antidumping and Countervailing Duty Operations.

[FR Doc. 2014-10510 Filed 5-7-14; 8:45 am]

BILLING CODE 3510-DS-P